POSTAL SERVICE

International Product Change—Priority Mail Express International, Priority Mail International & First-Class Package International Service Agreements

AGENCY: Postal Service.

ACTION: Notice.

SUMMARY: The Postal Service gives notice of filing requests with the Postal Regulatory Commission to add certain Priority Mail Express International, Priority Mail International & First-Class Package International Service contracts to the list of Negotiated Service Agreements in the Competitive Product List in the Mail Classification Schedule.

DATES: Date of notice: August 21, 2025.

FOR FURTHER INFORMATION CONTACT: Christopher C. Meyerson, (202) 268-7820.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
8/11/2025 | PMEI, PMI & FCPIS 82 | MC2025-1590 | K2025-1582.
8/12/2025 | PMEI, PMI & FCPIS 83 | MC2025-1594 | K2025-1586.
8/8/2025 | PMEI, PMI & FCPIS 85 | MC2025-1600 | K2025-1592.
8/12/2025 | PMEI, PMI & FCPIS 87 | MC2025-1601 | K2025-1593.

Documents are available at www.prc.gov.

Colleen Hibbert-Kapler,
Attorney, Ethics and Legal Compliance.

[FR Doc. 2025-15933 Filed 8-20-25; 8:45 am]

BILLING CODE 7710-12-P